DEPARTMENT OF THE TREASURY

Internal Revenue Service

26 CFR Parts 1, 31, and 301

[REG-107186-00]

RIN 1545-AY50

Electronic Payee Statements; Hearing

AGENCY: Internal Revenue Service (IRS), Treasury.

ACTION: Rescheduled public hearing on proposed rulemaking.

SUMMARY: This document reschedules the public hearing on proposed regulations relating to voluntary electronic furnishing of payee statements on Forms W-2.

DATES: The public hearing is being held on Wednesday, July 25, 2001, at 10 a.m. Outlines of oral comments must be received by July 6, 2001.

ADDRESSES: The public hearing is being held in room 4716, Internal Revenue Building, 1111 Constitution Avenue, NW., Washington, DC. Send submissions to: Regulations Unit CC (REG-107186-00), room 5226, Internal Revenue Service, POB 7604, Ben Franklin Station, Washington, DC 20044. Submissions may be hand delivered between the hours of 8 a.m. and 5 p.m. to: Regulations Unit CC (REG-107186-00), Courier's Desk, Internal Revenue Service, 1111 Constitution, Avenue NW., Washington, DC. Alternatively, taxpayers may submit outlines of oral comments electronically directly to the IRS Internet site at http://www.irs.gov/tax_regs/regslist.html.

FOR FURTHER INFORMATION CONTACT: Concerning the regulations, Laura Nash, (202) 622-4910; concerning submissions, Sonya M. Cruse, (202) 622-7180 (not a toll-free number).

SUPPLEMENTARY INFORMATION:

Background

A notice of proposed rulemaking and notice of public hearing, appearing in the Federal Register on Wednesday, February 14, 2001 (66 FR 10247), announced that a public hearing was being held on June 4, 2001, regarding proposed regulations under sections 6041 and 6051. A hearing cancellation document was inadvertently published in the Federal Register on May 23, 2001 (66 FR 28408). Thus, the IRS is rescheduling the public hearing for Wednesday, July 25, 2001, at 10 a.m. in room 4716. Outlines of oral comments must be received by July 6, 2001.

Cynthia E. Grigsby,
Chief, Regulations Unit, Office of Special Counsel (Modernization & Strategic Planning).

[FR Doc. 01-14665 Filed 6-13-01; 8:45 am]

BILLING CODE 4830-01-P